DEPARTMENT OF HEALTH AND HUMAN SERVICES

National Institutes of Health

Center for Scientific Review; Amended Notice of Meeting

Notice is hereby given of a change in the meeting of the Center for Scientific Review Special Emphasis Panel, February 27, 2002, 8 PM to March 1, 2002, 2 PM, Monarch Hotel, 2400 M Street, NW., Washington, DC, 20037 which was published in the Federal Register on February 13, 2002, 67 FR 6728-6731.

The meeting times have been changed to 8 AM to 3 PM. The meeting dates and location remain the same. The meeting is closed to the public.

Dated: February 22, 2002.
LaVerne Y. Stringfield,
Director, Office of Federal Advisory Committee Policy.

[FR Doc. 02-4815 Filed 2-27-02; 8:45 am]

BILLING CODE 4140-01-M